DEPARTMENT OF COMMERCE

International Trade Administration

[A-570-970]

Multilayered Wood Flooring From the People's Republic of China: Final Results of Changed Circumstances Review

AGENCY: Enforcement and Compliance, International Trade Administration, Department of Commerce.

SUMMARY: On February 12, 2015, the Department of Commerce (the “Department”) published its initiation and preliminary results of a changed circumstances review ¹ of the antidumping duty (“AD”) order on multilayered wood flooring (“MLWF”) from the People's Republic of China (“PRC”).² The Department preliminarily determined that Zhejiang Fuma Warm Technology Co., Ltd. (“Zhejiang Fuma”) is the successor-in-interest to Huzhou Fuma Wood Bus. Co., Ltd. (“Huzhou Fuma”) for purposes of the AD order on MLWF from the PRC and, as such, is entitled to Huzhou Fuma's cash deposit rate with respect to entries of subject merchandise. We invited interested parties to comment on the Preliminary Results. As no parties submitted comments, and there is no other information or evidence on the record calling into question our Preliminary Results, the Department is making no changes to the Preliminary Results.

¹ See Initiation and Preliminary Results of Antidumping Duty Changed Circumstances Review: Multilayered Wood Flooring From the People's Republic of China, 80 FR 7842 (February 12, 2015) (“Preliminary Results”), and accompanying Preliminary Decision Memorandum.

² See Multilayered Wood Flooring From the People's Republic of China: Amended Final Determination of Sales at Less Than Fair Value and Antidumping Duty Order, 76 FR 76690 (December 8, 2011).

DATES: Effective Date: July 13, 2015.

FOR FURTHER INFORMATION CONTACT: Krisha Hill, AD/CVD Operations, Office IV, Enforcement and Compliance, International Trade Administration, U.S. Department of Commerce, 14th Street and Constitution Avenue NW., Washington, DC 20230; telephone: (202) 482-4037.

SUPPLEMENTARY INFORMATION:

Background

On February 12, 2015, the Department initiated a changed circumstances review and made a preliminary finding that Zhejiang Fuma is the successor-in-interest to Huzhou Fuma, and is entitled to Huzhou Fuma's cash deposit rate with respect to entries of merchandise subject to the AD order on MLWF from the PRC.³ We also provided interested parties 14 days from the date of publication of the Preliminary Results to submit case briefs in accordance with 19 CFR 351.309(c)(1)(ii). No interested parties submitted case briefs or requested a hearing. On June 24, 2015, the Department issued to interested parties draft customs instructions and solicited comment. None were received.

³ See Preliminary Results, 80 FR at 7842-43.

Scope of the Order

Multilayered wood flooring is composed of an assembly of two or more layers or plies of wood veneer(s) in combination with a core. Imports of the subject merchandise are provided for under the following subheadings of the Harmonized Tariff Schedule of the United States (“HTSUS”): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.3175; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; 4418.72.9500; and 9801.00.2500.⁴ While HTSUS subheadings are provided for convenience and customs purposes, the written description of the subject merchandise is dispositive.

⁴ For a complete description of the Scope of the Order, see Preliminary Decision Memorandum at 2-3.

Final Results of Changed Circumstances Review

Because no party submitted a case brief in response to the Department's Preliminary Results, and because the record contains no other information or evidence that calls into question the Preliminary Results, the Department continues to find that Zhejiang Fuma is the successor-in-interest to Huzhou Fuma, and is entitled to Huzhou Fuma's cash deposit rate with respect to entries of merchandise subject to the AD order on MLWF from the PRC.⁵

⁵ For a complete discussion of the Department's findings, which remain unchanged in these final results and which are herein incorporated by reference and adopted by this notice, see generally the Preliminary Decision Memorandum accompanying the Preliminary Results.

Instructions to U.S. Customs and Border Protection

Based on these final results, we will instruct U.S. Customs and Border Protection to collect estimated ADs for all shipments of subject merchandise exported by Zhejiang Fuma and entered, or withdrawn from warehouse, for consumption on or after the publication date of this notice in the Federal Register at the current AD cash deposit rate for Huzhou Fuma (i.e., 58.84 percent). This cash deposit requirement shall remain in effect until further notice.

Notification to Interested Parties

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing this final results notice in accordance with sections 751(b) and 777(i) of the Tariff Act of 1930, as amended, and 19 CFR 351.216.

Dated: July 7, 2015.
Paul Piquado,
Assistant Secretary for Enforcement and Compliance.

[FR Doc. 2015-17081 Filed 7-10-15; 8:45 am]

BILLING CODE 3510-DS-P